DEPARTMENT OF AGRICULTURE

Forest Service

Eastern Idaho Resource Advisory Committee; Caribou-Targhee National Forest, Idaho Falls, ID

AGENCY: Forest Service, USDA.

ACTION: Notice of meeting.

SUMMARY: Pursuant to the authorities in the Federal Advisory Committee Act (Pub. L. 92-463) and under the Secure Rural Schools and Community Self-Determination Act of 2000 (Pub. L. 106-393) the Caribou-Targhee National Forests' Eastern Idaho Resource Advisory Committee will meet Friday, March 25, 2011 in Idaho Falls, Idaho for a business meeting. The meeting is open to the public.

DATES: The business meeting will be held on March 25, 2011, from 9 a.m. until finished.

ADDRESSES: The meeting location is the Caribou-Targhee National Forest Headquarters Office, 1405 Hollipark Drive, Idaho Falls, Idaho 83401.

FOR FURTHER INFORMATION CONTACT: Brent Larson, Caribou-Targhee National Forest Supervisor and Designated Federal Officer, at (208) 524-7500.

SUPPLEMENTARY INFORMATION: The business meeting on March 25, 2011, begins at 9 a.m., at the Caribou-Targhee National Forest Headquarters Office, 1405 Hollipark Drive, Idaho Falls, Idaho. Agenda topics will include approving projects for 2010-3rd year and 2011-4th year funding.

Dated: March 7, 2011.
Brent L. Larson,
Caribou-Targhee Forest Supervisor.

[FR Doc. 2011-5636 Filed 3-10-11; 8:45 am]

BILLING CODE 3410-11-P